DEPARTMENT OF THE INTERIOR

National Park Service

[NPS-NERO-CEBE-16109; PPNECEBE00, PPMPSAS1Z.Y00000]

Notice of the 2014-2015 Meeting Schedule for Cedar Creek and Belle Grove National Historical Park Advisory Commission

AGENCY: National Park Service, Interior.

ACTION: Notice of public meetings.

SUMMARY: As required by the Federal Advisory Committee Act (5 U.S.C. Appendix 1-16), the National Park Service is hereby giving notice that the Cedar Creek and Belle Grove National Historical Park Advisory Commission will hold quarterly meetings to discuss park projects and the implementation of the park's general management plan.

DATES: September 18, 2014.

ADDRESSES: Middletown Town Hall Council Chambers, 7875 Church Street, Middletown, VA 22645.

DATES: December 18, 2014.

ADDRESSES: Warren County Government Center, 220 North Commerce Avenue, Front Royal, VA 22630.

DATES: March 19, 2015.

ADDRESSES: Strasburg Town Hall Council Chambers, 174 East King Street, Strasburg, VA 22657.

DATES: June 18, 2015.

ADDRESSES: Middletown Town Hall Council Chambers, 7875 Church Street, Middletown, VA 22645.

DATES: September 17, 2015.

ADDRESSES: Warren County Government Center, 220 North Commerce Avenue, Front Royal, VA 22630.

DATES: December 17, 2015.

ADDRESSES: Strasburg Town Hall Council Chambers, 174 East King Street, Strasburg, VA 22657.

Agenda: All meetings are open to the public and begin at 9 a.m. Topics to be discussed include: Visitor services and interpretation—including directional and interpretive signage and visitor facilities, land protection planning, historic preservation, and natural resource protection.

Commission meetings will consist of the following:

1. General Introductions

2. Review and Approval of Commission Meeting Notes

3. Reports and Discussions

4. Old Business

5. New Business

6. Closing Remarks

FOR FURTHER INFORMATION CONTACT: Further information concerning the meetings may be obtained from Amy Bracewell, Site Manager, Cedar Creek and Belle Grove National Historical Park, P.O. Box 700, Middletown, Virginia 22645, telephone (540) 868-9176, or visit the park Web site: http://www.nps.gov/cebe/parkmgmt/park-advisory-commission.htm.

SUPPLEMENTARY INFORMATION: The Commission was designated by Congress to provide advice to the Secretary of the Interior on the preparation and implementation of the park's general management plan and to advise on land protection. Individuals who are interested in the park, the implementation of the plan, or the business of the Commission are encouraged to attend the meetings. Interested members of the public may present, either orally or through written comments, information for the Commission to consider during the public meeting. Attendees and those wishing to provide comment are strongly encouraged to preregister through the contact information provided. Scheduling of public comments during the Commission meeting will be determined by the chairperson of the Commission.

Before including your address, telephone number, email address, or other personal identifying information in your comment, you should be aware that your entire comment—including your personal identifying information—may be made publicly available at any time. While you may ask us in your comment to withhold your personal identifying information from public view, we cannot guarantee that we will be able to do so.

Dated: August 29, 2014.
Alma Ripps,
Chief, Office of Policy.

[FR Doc. 2014-21086 Filed 9-3-14; 8:45 am]

BILLING CODE 4310-EE-P